DEPARTMENT OF EDUCATION

Office of Special Education and Rehabilitative Services; List of Correspondence

AGENCY: Department of Education.

ACTION: List of correspondence from October 1, 2002 through December 31, 2002.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507.

If you use a telecommunications device for the deaf (TDD), you may call (202) 205-5637 or the Federal Information Relay Service (FIRS) at 1-800-877-8339.

Individuals with disabilities may obtain a copy of this notice in an alternative format (e.g., Braille, large print, audiotape, or computer diskette) on request to Katie Mincey, Director of the Alternate Format Center. Telephone: (202) 205-8113.

SUPPLEMENTARY INFORMATION: The following list identifies correspondence from the Department issued from October 1, 2002 through December 31, 2002.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part B

Assistance for Education of All Children With Disabilities, Section 611—Authorization; Allotment; Use of Funds; Authorization of Appropriations

Section 619—Preschool Grants

Topic Addressed: Distribution of Funds Provided to the Secretary of the Interior

• Letter dated December 17, 2002 to Washington Department of Social and Health Services Indian Policy Advisory Committee Chair Marilyn M. Scott, clarifying that under current law the State and the Bureau of Indian Affairs each have certain responsibilities regarding the provision of early intervention and special education and related services to Native American children with disabilities residing on reservations.

Topic Addressed: Use of funds

• Letter dated November 7, 2002 to Minnesota Department of Education Director of Accountability and Compliance Norena Hale, listing regulations that apply to the use of State set-aside funds under sections 611 and 619 for monitoring.

Section 612—State Eligibility

Topic Addressed: Free Appropriate Public Education

• Letter dated October 9, 2002 to Beth L. Sims, Esq., clarifying that the IDEA, as amended, and its implementing regulations do not obligate a school district receiving a special education student from another State to accept the evaluation results, eligibility determinations, and individualized education program (IEP) decisions made in another State, but do obligate a local educational agency (LEA) to provide a free appropriate public education (FAPE), in accordance with State education standards, to all eligible students.

Topic Addressed: State Educational Agency General Supervisory Authority

• Letter dated October 17, 2002 to Florida Bureau of Instructional Support and Community Services Chief Shan Goff, regarding improvement activities required to address areas of noncompliance in the provision of speech-language services as a related service to children with disabilities, identified during the Office of Special Education Program's monitoring activities.

Topic Addressed: Methods of Ensuring Services

• Letter dated November 6, 2002 to South Carolina Department of Education Director of Programs for Exceptional Children Susan D. Durant, regarding requirements to obtain parent consent under Part B of the IDEA and the Family Educational Rights and Privacy Act (FERPA) in order to access Medicaid or public insurance benefits.

Section 614—Evaluations, Eligibility Determinations, Individualized Education Programs, and Educational Placements

Topic Addressed: Eligibility Determinations

• Letter dated October 9, 2002 to Minneapolis Public Schools Executive Director of Special Education Colleen Baumtrog, regarding requirements for evaluating and identifying children with specific learning disabilities and clarifying that neither the IDEA nor the Part B regulations require the use of intelligence quotient tests as part of an initial evaluation or a reevaluation.

Topic Addressed: Individualized Education Programs

• Letter dated November 21, 2002 to U.S. Congressman Dennis Moore, regarding issues related to the graduation of a student with a disability, including transition planning, transition services, reevaluations and procedural safeguards.

Section 615—Procedural Safeguards.

Topic Addressed: Independent Educational Evaluations

• Letter dated October 9, 2002 to individual, (personally identifiable information redacted), clarifying that to avoid unreasonable charges for independent educational evaluations (IEEs) a school district may establish maximum allowable charges, but the school district must allow parents the opportunity to demonstrate that unique circumstances justify an IEE that is more expensive; and if the school district disagrees with the parents' justification, it must bring a hearing to demonstrate that the IEE did not meet the agency's cost criteria and that unique circumstances do not justify the higher rate.

Topic Addressed: Notice to Parents

• Letter dated October 9, 2002 to NEA Professional Associate for Special Needs Patti Ralabate, clarifying (1) that if an IEP meeting does not result in a proposal or refusal to initiate or change the identification, evaluation, or educational placement of the child or the provision of a FAPE to their child, prior notice is not required, (2) that one method public agencies could use to meet the requirement for reporting the information on IEP goals required by 34 CFR 300.347(a)(7)(ii)(A) and (B) to parents would be to include that information on the periodic report cards that report grading information to all students, and (3) how the language needs of a child with a disability who has limited English proficiency must be addressed in the child's IEP based on the individual needs of the child.

Part C

Infants and Toddlers With Disabilities

Section 637—State Application and Assurances

Topic Addressed: Prohibition Against Supplanting

• Letter dated November 12, 2002 to Louisiana Department of Education Assistant Superintendent Rodney Watson, discussing the non-supplanting requirements for Part C funds and indicating that the total State and local expenditures should be considered, and not just lead agency funds.

Section 643—Allocation of Funds.

Topic Addressed: Administration of Part C Funds

• Letter dated November 20, 2002 to New Mexico Department of Health Program Manager Andrew Gomm, clarifying that the Education Department General Administrative Regulations require recipients of IDEA part C Federal grant awards to have a restricted indirect cost rate.

Other Letters Relevant to the Administration of Idea Programs

Topic Addressed: Child with a Disability

• Letter dated November 8, 2002 to U.S. Congressman Ken Lucas, regarding the circumstances under which a child with asthma may be eligible under the IDEA or under section 504 of the Rehabilitation Act of 1973 or both.

Topic Addressed: Applicability of Regulations

• Letter dated October 29, 2002 to Dr. Perry A. Zirkel regarding application of the requirements of the IDEA, section 504 of the Rehabilitation Act of 1973, and the Americans with Disabilities Act to overseas schools.

Topic Addressed: Free Appropriate Public Education

• Letter dated October 22, 2002 to Chief State School Officers, regarding implementation of the No Child Left Behind Act and the importance of identifying schools in need of improvement to ensure that every child learns.

Topic Addressed: Procedural Safeguards

• Letter dated November 19, 2002 to Dr. Perry A Zirkel clarifying that neither the IDEA nor its implementing regulations address interlocutory appeals and that whether these appeals are allowed is a State decision subject to the timeline provisions of 34 CFR 300.512.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.027, Assistance to States for Education of Children with Disabilities)
Dated: April 17, 2003.
Robert H. Pasternack,
Assistant Secretary for Special Education and Rehabilitative Services.

[FR Doc. 03-9941 Filed 4-21-03; 8:45 am]

BILLING CODE 4000-01-P